DEPARTMENT OF HOMELAND SECURITY

Coast Guard

[USCG-2004-19621]

Dry Cargo Residue Discharges in the Great Lakes; Preparation of Environmental Impact Statement

AGENCY: Coast Guard, DHS.

ACTION: Notice of intent; request for comments; notice of public scoping meeting.

SUMMARY: The Coast Guard announces its intent to prepare a new Environmental Impact Statement (EIS) for the next phase of this rulemaking. The new EIS will tier off the first EIS, which was prepared in support of the interim rule published in September 2008. Under the interim rule, the discharge of bulk dry cargo residue is allowed to continue in limited areas of the Great Lakes and under certain conditions. The Coast Guard plans to issue a final rule that may modify the interim rule and add new conditions for discharges. The new EIS will support the final rule. This notice requests public comments and begins a public scoping process to help determine the scope of issues to be addressed in the new EIS.

DATES: Comments and related material must either be submitted to our online docket via http://www.regulations.gov on or before March 30, 2009 or reach the Docket Management Facility by that date. The public scoping meeting will be held on January 28, 2009, from 1 p.m. to 5 p.m. Comments and related material must reach the Docket Management Facility on or before March 30, 2009.

ADDRESSES: The public scoping meeting will be held at the Hotel Blake, 500 South Dearborn, Chicago, IL 60605. The contact telephone number for the Hotel Blake is (312) 986-1234.

In addition to submitting written statements or making verbal comments at the public scoping meeting, you may submit comments identified by docket number USCG-2004-19621 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these methods. For instructions on submitting comments, see the “Public Participation and Request for Comments” portion of the SUPPLEMENTARY INFORMATION section below.

FOR FURTHER INFORMATION CONTACT: If you have questions regarding this notice, please contact Mr. Greg Kirkbride, U.S. Coast Guard, telephone 202-372-1479, e-mail Gregory.B. Kirkbride@uscg.mil. If you have questions on viewing or submitting material to the docket, call Ms. Renee V. Wright, Program Manager, Docket Operations, telephone 202-366-9826.

SUPPLEMENTARY INFORMATION:

Public Participation and Request for Comments

We encourage you to submit comments and related material during the public scoping process. All comments received will be posted, without change, to http://www.regulations.gov and will include any personal information you have provided.

Submitting comments: If you submit a comment, please include the docket number for this notice (USCG-2004-19621) and provide a reason for each suggestion or recommendation. You may submit your comments and material online, or by fax, mail or hand delivery, but please use only one of these means.

To submit your comment online, go to http://www.regulations.gov, select the Advanced Docket Search option on the right side of the screen, insert “USCG-2004-19621” in the Docket ID box, press Enter, and then click on the balloon shape in the Actions column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments: To view the comments go to http://www.regulations.gov, select the Advanced Docket Search option on the right side of the screen, insert USCG-2004-19621 in the Docket ID box, press Enter, and then click on the item in the Docket ID column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008 issue of the Federal Register (73 FR 3316).

Public Scoping Meeting

If you need special arrangements, please use the contact information in FOR FURTHER INFORMATION CONTACT. The meeting will start with an overview presentation, followed by a formal public comment period. Following the formal public comment period, we will hold an informal open house. At the open house, Coast Guard personnel will be available to provide more information about the National Environmental Policy Act (NEPA), Coast Guard rulemaking processes, and dry cargo residue discharges. A court reporter will be present during both the formal public comment period and the informal open house to record verbal comments from the public. The public will also be able to submit written comments related to this rulemaking at any time during the meeting. Verbal comments will be recorded and transcribed, and the transcription will be placed in the public docket along with any written statements that may be submitted during the meeting. These comments and statements will be addressed by the Coast Guard as part of the tiered Environmental Impact Statement.

Background and Purpose

Bulk dry cargo vessels on the Great Lakes sometimes wash the residue of non-hazardous and non-toxic cargo, like taconite (iron ore) pellets, coal, and grain, overboard. This “sweeping,” or discharge, of dry cargo residue (DCR) is allowed, under certain conditions, by 33 CFR 151.66, as amended by an interim rule published on September 29, 2008 (73 FR 56492), which was supported by an EIS (the “first EIS”).

The interim rule also announced the Coast Guard's intent to conduct a second phase of this rulemaking before issuing a final rule. In the second phase, we want to determine what additional regulatory changes, if any, should be imposed on DCR discharges to offset any potential long term impacts from this practice. Those additional changes could include, among other possible measures, the mandatory use of DCR control measures or adjustment to the geographical boundaries within which discharges are currently allowed. A tiered EIS (40 CFR 1508.28; hereinafter referred to as the “second EIS”) will allow the Coast Guard to focus on these specific issues, while excluding those that were decided in the first phase of the rulemaking, in order to determine whether further adjustments to the interim rule are needed.

As required by 40 CFR 1501.7, a Council on Environmental Quality regulation that implements NEPA, this notice begins an early and open public “scoping process” for determining the scope of issues to be addressed in the second EIS. We invite public comment on our current plan for preparing the second EIS. Currently, we intend to:

• Conduct an inventory of shoreside facilities for types of control measures used when loading and unloading dry cargo to and from vessels and types of dry cargo handled.

• Conduct an inventory of vessels that carry DCR for types of control measures used on board the vessel when loading and unloading.

• Quantify the current amount of cargo residues on vessels, with and without control measures.

• Review and analyze vessel DCR reporting forms in order to quantify DCR discharge amounts by cargo type, vessel class, and control measure.

• Evaluate costs for implementing, operating, and maintaining vessel and shoreside DCR control measures.

• Update previous impact analyses of DCR discharge on water quality changes and DCR disposition.

We may modify this plan in light of public comment received during the scoping process. This information will be used as a basis for selecting the proposed action from alternatives under consideration. Analysis of this information may also be used to develop additional alternatives not listed below that can be considered.

Possible Alternatives

Alternatives currently being considered for future Coast Guard action include:

• Adopting the interim rule as a final rule without changes. This will allow the current level of DCR discharges to continue in limited areas of the Great Lakes and under certain conditions. For the purposes of our environmental review in this second EIS, this represents the “no-action” alternative;

• Adopting a final rule based on the interim rule, but with changes designed to reduce the potential environmental impact of DCR discharges. Possible changes would be specified and could include:

○ Adoption of the mandatory use of DCR control measures;

• Control measures on vessels, and/or

• Control measures at the loading and unloading facilities;

○ DCR quantity discharge limits;

• DCR quantity limits could be scaled according to vessel class, size and/or route length;

○ Cargo type discharge limits; or

○ Additional restrictions on DCR discharge locations;

• Prohibit all DCR discharges in the Western Basin

• Zero-Discharge Alternative.

This is not an exhaustive list of alternatives. We intend to be guided by data on DCR discharges and DCR control measures and by consideration of all public comments.

Scoping Process

Public scoping is an early and open process for determining the scope of issues to be addressed in this second EIS and for identifying the issues related to the proposed action that may have a significant effect on the Great Lakes environment. The scoping process begins with publication of this notice and ends after the Coast Guard has:

• Invited the participation of Federal, State, and local agencies, any affected Indian tribe, and other interested persons;

○ The Coast Guard has requested the Environmental Protection Agency, the United States Fish and Wildlife Service, the National Marine Fisheries Service, the National Park Service, and the United States Army Corps of Engineers to serve as cooperating agencies in the preparation of this second EIS. With this Notice of Intent, we are asking Federal, State, and local agencies with jurisdiction or special expertise with respect to environmental issues in the Great Lakes region, in addition to those we have already contacted, to formally cooperate with us in the preparation of this tiered EIS.

• Determined the scope and the issues to be analyzed in depth in the second EIS;

○ From our first EIS, we have identified this preliminary list of environmental resources to receive attention in the second EIS:

• Sediment physical structure

• Protected and Sensitive Areas

• Benthic Community

• Invasive Species

• Socioeconomic Resources

• Identified and eliminated from detailed study those issues that are not significant or that have been covered elsewhere (for example, we do not anticipate detailed study of the following environmental resources that we determined, in the first EIS, to have “no impact” from DCR discharges: fish and other pelagic organisms, waterfowl, and recreational or commercial fishing);

• Allocated responsibility for preparing the tiered EIS components;

• Indicated any related environmental assessments or environmental impact statements that are not part of the tiered EIS;

• Identified other relevant environmental review and consultation requirements, such as Coastal Zone Management Act consistency determinations, and threatened and endangered species and habitat impacts;

• Indicated the relationship between timing of the environmental review and other aspects of the application process; and

• Exercised our option under 40 CFR 1501.7(b) to hold the public scoping meeting announced in this notice.

Once the scoping process is complete, the Coast Guard will prepare a draft second EIS, and we will publish a Federal Register notice announcing its public availability. If you wish to be mailed or e-mailed the announcement of the second EIS's notice of availability, please contact the person named in FOR FURTHER INFORMATION CONTACT or send a request to be added to our contact mailing list along with your name and mailing address or an e-mail address online, by fax, mail, or hand delivery according to the Submitting Comments instructions above. If you provide comments on this notice, we will automatically add your contact information to our contact mailing list and you will automatically be sent an announcement of the draft second EIS's notice of availability. We will provide the public with an opportunity to review and comment on the draft second EIS. After the Coast Guard considers those comments, we will prepare the final second EIS and similarly announce its availability and solicit public review and comment.

Dated: December 19, 2008.
Jeffery G. Lantz,
Director of Commercial Regulations and Standards, U.S. Coast Guard.

[FR Doc. E8-30804 Filed 12-24-08; 8:45 am]

BILLING CODE 4910-15-P